DEPARTMENT OF ENERGY

Office of Energy Efficiency and Renewable Energy

Agency Information Collection Activities: Proposed Collection; Comment Request

AGENCY: Department of Energy.

ACTION: Notice of proposed Agency information collection and request for comments.

SUMMARY: The Department of Energy (DOE) invites public comment on a proposed information collection that DOE is developing for submission to the Office of Management and Budget (OMB), pursuant to the Paperwork Reduction Act of 1995. This collection would gather information over a three-year period from participants in the Industrial Assessment Center (IAC) Program (specifically clients, alumni and web-site users), concerning details of energy, waste, production and cost savings generated through their participation in IAC assessments, or through their use of IAC-sponsored web-sites.

DATES: Written comments must be submitted by August 14, 2000. If you anticipate difficulty in submitting comments within that period, contact the person listed below as soon as possible.

ADDRESSES: Written comments may be sent to M. Martin, Oak Ridge National Laboratory, PO Box 2008, MS-6070, Oak Ridge, TN 37831-6070; or by FAX at (865) 574-9338; or by e-mail at martinma@ornl.gov.

FOR FURTHER INFORMATION CONTACT: Requests for additional information or copies of the forms and instructions should be directed to M. Martin using the contact information listed above.

SUPPLEMENTARY INFORMATION: Collection Title: Impact Evaluation of IAC Program Participants: Clients, Alumni and Web-users.

OMB Control Number: None.

Type of Request: New collection.

Frequency of response: One time only.

Respondents: IAC Program clients, alumni and web-users (businesses and individuals).

Estimated number of annual respondents: 570.

Estimated total annual burden hours: 355 hours.

Background

The Department of Energy, as part of its effort to comply with the Paperwork Reduction Act of 1995 (Pub. L. 104-13, 44 U.S.C. Chapter 35), provides the general public and other Federal agencies with opportunities to comment on collections of information conducted by or in conjunction with DOE. Any comments received help the Department to prepare data requests that maximize the utility of the information collected, and to assess the impact of collection requirements on the public. Also, DOE will later seek approval by the Office of Management and Budget (OMB) of the collections under Section 3506(c) of the Paperwork Reduction Act of 1995.

Data will be collected from IAC participants concerning energy, waste, productivity and cost savings generated through their participation in IAC assessments or through their use of technical information provided by IAC-sponsored web-sites. Data will be collected from clients, program alumni, and IAC web-users using either electronic, web-based surveys or telephone interviews. The data will provide input for an impact evaluation of the IAC Program, to be used for reporting on program performance in compliance with the Government Performance and Results Act 1993 (GPRA). The evaluation approach and summarized results will be published.

Request for Comments

DOE invites comments from prospective respondents and other interested parties on: (1) Whether the proposed collection of data is necessary to measure savings impacts generated by IAC participants; (2) enhancements to the quality, utility, and clarity of the information to be collected; (3) the accuracy of DOE's estimate of the burden of the proposed information collection; (4) any means of minimizing the burden of the collection of information on those who choose to respond; (5) the availability and details of similar information collected by other Federal, State or local industrial assistance programs. Additional information about DOE's proposed information collection may be obtained from the contact person named in this notice.

Comments submitted in response to this notice will be summarized and/or included in the request for OMB approval of the form. They also will become a matter of public record.

Statutory Authority: Section 3506(c) of the Paperwork Reduction Act of 1995 (Pub. L. 104-13, 44 U.S.C. Chapter 35).

Issued in Washington, DC on June 5, 2000.
Peter J. Grahn,
Director, Office of Records and Resource Management.

[FR Doc. 00-14592 Filed 6-8-00; 8:45 am]

BILLING CODE 6450-01-P